DEPARTMENT OF TRANSPORTATION

Office of the Secretary

Application Of Delux Public Charter, LLC for Commuter Air Carrier Authority

AGENCY: Department of Transportation.

ACTION: Notice of Order to Show Cause (Order 2016-4-13) Docket DOT-OST-2015-0208.

SUMMARY: The Department of Transportation is directing all interested persons to show cause why it should not issue an order finding Delux Public Charter, LLC fit, willing, and able, and awarding it commuter air carrier authorization.

DATES: Persons wishing to file objections should do so no later than April 22, 2016.

ADDRESSES: Objections and answers to objections should be filed in Docket DOT-OST-2015-0208 and addressed to Docket Operations (M-30, Room W12-140), U.S. Department of Transportation, 1200 New Jersey Avenue SE., Washington, DC 20590, and should be served upon the parties listed in Attachment A to the order.

FOR FURTHER INFORMATION CONTACT: Shabu Thomas, Air Carrier Fitness Division (X-56, Room W86-469), U.S. Department of Transportation, 1200 New Jersey Avenue SE., Washington, DC 20590, (202) 366-9721.

Dated: April 15, 2016.
Robert Goldner,
Special Counsel to the Assistant Secretary for Aviation and International Affairs.

[FR Doc. 2016-09247 Filed 4-20-16; 8:45 am]

BILLING CODE 4910-9X-P